DEPARTMENT OF HOUSING AND URBAN DEVELOPMENT

[Docket No. FR 5604-N-10]

Notice of Proposed Information Collection for Public Comment: Funding Availability for OneCPD Technical Assistance and Capacity Building Program

AGENCY: Office of the Assistant Secretary for Community Planning and Development, U.S. Department of Housing and Urban Development (HUD).

ACTION: Notice of proposed information collection.

SUMMARY: The proposed information collection requirement described below will be submitted to the Office of Management and Budget (OMB) for review, as required by the Paperwork Reduction Act. The Department is soliciting public comments on the subject proposal.

DATES: Comments Due Date: November 9, 2012.

ADDRESSES: Interested persons are invited to submit comments regarding this proposal. Comments should refer to the proposal by name/or OMB Control number and should be sent to: Colette Pollard, Departmental Reports Management Officer, QDAM, Department of Housing and Urban Development, 451 7th Street SW., Room 4160, Washington, DC 20410-5000; telephone (202) 402-3400, (this is not a toll-free number) or email Ms. Pollard at Colette.Pollard@hud.gov for a copy of proposed forms, or other available information. Persons with hearing or speech impairments may access this number through TTY by calling the toll-free Federal Information Relay Service at (800) 877-8339.

FOR FURTHER INFORMATION CONTACT: Kenneth Rogers, Team Lead, Technical Assistance Division, Office of Technical Assistance and Management, CPD, Department of Housing and Urban Development, 451 7th Street SW., Room 7218, Washington, DC 20410; telephone (202) 708-3176 (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Notice of Funding Availability for OneCPD Technical Assistance and Capacity Building Program.

Description of the need for the information proposed: Application information is needed to determine competition winners, i.e., those technical assistance providers best able to assist CPD grantees and communities to develop efficient and effective programs and projects that increase the supply of affordable housing units, prevent and reduce homelessness, improve data collection and reporting, and use coordinated neighborhood and community development strategies to revitalize and strengthen their communities.

Agency Form Numbers: SF-424, SF-424CB, SF-424CBW, LLL, 2880.

Members of the affected public: For profit and non-profit organizations or State and local governments equipped to provide technical assistance to recipients of funds administered by the Office of Community Planning and Development (CPD).

Estimation of the total number of hours needed to prepare the information collection including number of respondents, frequency of response, and hours of response:

| Number of respondents | Number of responses per respondent annually | Total annual responses | Hours per response | Total annual hours
Application | 35 | 1 | 35 | 100 | 3,500
Work Plans | 15 | 17 | 255 | 18 | 4,590
Reports | 15 | 16 | 240 | 6 | 1,440
Recordkeeping | 15 | 12 | 180 | 6 | 960
TOTAL |  |  | 710 |  | 10,490

Status of proposed information collection: New Collection.

Authority: Section 3506 of the Paperwork Reduction act of 1995, 44 U.S.C. Chapter 35, as amended.

Dated: August 28, 2012.
Mark Johnston,
Assistant Secretary for Community Planning and Development (Acting).

[FR Doc. 2012-22216 Filed 9-7-12; 8:45 am]

BILLING CODE 4210-67-P